DEPARTMENT OF VETERANS AFFAIRS

Corporate Senior Executive Management Office; Notice of Performance Review Board Members

AGENCY: Corporate Senior Executive Management Office, Department of Veterans Affairs.

ACTION: Notice.

SUMMARY: Agencies are required to publish a notice in the Federal Register of the appointment of Performance Review Board (PRB) members. This notice announces the appointment of individuals to serve on the PRB of the Department of Veterans Affairs.

DATES: This appointment is effective October 25, 2021.

ADDRESSES: Corporate Senior Executive Management Office, Department of Veterans Affairs, 810 Vermont Avenue NW, Washington, DC 20420.

FOR FURTHER INFORMATION CONTACT: Contact Carrie Johnson-Clark, Executive Director, Corporate Senior Executive Management Office (006D), Department of Veterans Affairs, 810 Vermont Avenue NW, Washington, DC 20420, (202) 632-5181.

SUPPLEMENTARY INFORMATION: The membership of the Department of Veterans Affairs Performance Review Board is as follows:

Bradsher, Tanya (Chair)

Arnold, Kenneth

Billups, Angela

Bocchicchio, Alfred

Boerstler, John

Bonjorni, Jessica

Christy, Phillip W.

Czarnecki, Tammy

Duke, Laura

Eskenazi, Laura

Flint, Sandra

Galvin, Jack

Hogan, Michael

Lilly, Ryan

MacDonald, Edna

Marsh, Willie C.

McInerney, Joan

McDivitt, Robert

Mitrano, Catherine

Morton, Barbara

Murray, Edward J.

Pape, Lisa

Pope, Derwin B.

Rivera, Fernando O.

Scavella, Erica

Simpson, Todd

Tapp, Charles

Thomas, Lisa

Tibbits, Paul

Signing Authority

Denis McDonough, Secretary of Veterans Affairs, approved this document on October 19, 2021, and authorized the undersigned to sign and submit the document to the Office of the Federal Register for publication electronically as an official document of the Department of Veterans Affairs.

(Authority: 5 U.S.C. 4314(c)(4))

Jeffrey M. Martin,
Assistant Director, Office of Regulation Policy & Management, Office of General Counsel, Department of Veterans Affairs.

[FR Doc. 2021-23167 Filed 10-22-21; 8:45 am]

BILLING CODE 8320-01-P